DEPARTMENT OF COMMERCE

International Trade Administration

Overseas Trade Missions for 2001

AGENCY: International Trade Administration, Department of Commerce.

ACTION: Notice.

SUMMARY: The Department of Commerce invites U.S. companies to participate in the below listed reverse and overseas trade missions. For a more complete description of each trade mission, obtain a copy of the mission statement from the Project Officer indicated for each mission below. Recruitment and selection of private sector participants for these missions will be conducted according to the Statement of Policy Governing Department of Commerce Overseas Trade Missions dated March 3, 1997.

Reverse Trade Mission from Brazil to San Diego and Los Angeles, California, and Miami, Florida

September 16-21, 2001

American companies must register for Miami meetings by August 27, 2001, and for Los Angeles or San Diego meetings by September 3, 2001.

For further information contact: For Miami—Mr. John McCartney, U.S. Department of Commerce.

Telephone 954-356-6640, or e-Mail to John.McCartney@mail.doc.gov

For San Diego or Los Angeles, Ms. Julia Rauner-Guerrero, U.S. Department of Commerce. Telephone 619-557-5395, or e-Mail to Julia.Rauner.Guerrero@mail.doc.gov

Telecommunications Trade Mission to Poland, Czech Republic and Slovakia Warsaw, Prague and Bratislava

December 1-8, 2001

Recruitment closes on November 1, 2001.

For further information contact: Ms. Beatrix Roberts, U.S. Department of Commerce.

Telephone 202-482-2952, or e-Mail to Beatrix_Roberts@ita.doc.gov

For further information contact Mr. Thomas Nisbet, U.S. Department of Commerce.

Telephone 202-482-5657, or e-Mail to Tom_Nisbet@ita.doc.gov

Dated: August 16, 2001.
Thomas H. Nisbet,
Director, Promotion Planning and Support Division, Office of Export Promotion Coordination.

[FR Doc. 01-21118 Filed 8-21-01; 8:45 am]

BILLING CODE 3510-DR-U